DEPARTMENT OF DEFENSE

Department of the Navy

[USN-2007-0009]

Privacy Act of 1974; System of Records

AGENCY: Department of the Navy, DoD.

ACTION: Notice to alter systems of records.

SUMMARY: The Department of the Navy is altering systems of records notices in its existing inventory of record systems subject to the Privacy Act of 1974, (5 U.S.C. 552a), as amended.

DATES: This proposed action will be effective without further notice on March 5, 2007 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The proposed system reports, as required by 5 U.S.C. 552a(r), of the Privacy Act of 1974, as amended, were submitted on January 24, 2007, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: January 29, 2007.
C.R. Choate,
Alternate OSD Federal Register Liaison Officer, Department of Defense.

N01500-8

System name:

Personnel and Training Evaluation Program (February 22, 1993, 58 FR 10716).

Changes:

* * * * *

System location:

Delete entry and replace with “Strategic Systems Programs, 2521 South Clark Street, Suite 1000, Arlington, VA 22202-3930.”

Categories of individuals covered by the system:

Delete entry and replace with “Officers and enlisted technicians who have been trained to operate and maintain the Strategic Weapon System (SWS) on Fleet Ballistic Missile Submarines. Officers are identified by completion of the SWS Basic Weapons course and enlisted individuals are identified by a Navy Enlisted Classification (NEC) Code in the series 3301-3349. Enlisted technicians who have been trained to operate and maintain the Attack Weapons System on Guided Missile Submarines. These individuals are identified by Navy Enlisted Classification (NEC) Codes of 3350, 1317, and 1319.”

* * * * *

Authority for maintenance of the system:

Delete entry and replace with “10 U.S.C. 5013, Secretary of the Navy and E.O. 9397 (SSN).”

Purpose(s):

Delete entry and replace with “To maintain a data base which will permit the Strategic Systems Programs to record achievement test scores of officers and enlisted members who operate and maintain the Strategic Weapon System on Fleet Ballistic Missile Submarines and enlisted personnel who operate and maintain the Attack Weapons System on Guided Missile Submarines. This information will be used to assess the adequacy of training received and the need for additional training. Internal Navy users are the Director, Strategic Systems Programs, Submarine Learning Center and assigned schools, Type Commanders and assigned units in the performance of their duties relating to training on the Strategic Weapon System and Attack Weapons System. Additional internal users include the Chief of Naval Personnel and Type Commanders and assigned units in the performance of their duties related to personnel assignment. Navy Personnel Research, Studies and Technology may, from time to time, validate service selection criteria for the DOD. It may be provided to civilian contractors and their employees for the purpose of analysis or system operations in accordance with an approved official contract with the U.S. Navy.”

* * * * *

Storage:

“Delete entry and replace with “Automated records are stored on computer media, disks, or magnetic tape. Hard copy and/or electronic reports are distributed to authorized user activities using approved shipping procedures and in the case of electronic format, via user/password protected distribution methods using Navy Knowledge Online (NKO). Hard copy reports and portable computer media are stored in notebooks or file folders in drawers, cabinets, or other filing equipment.”

* * * * *

Retention and disposal:

Delete entry and replace with “Records are retained for five years after an individual leaves the Strategic Weapons System or Attack Weapon System program and then destroyed.”

* * * * *

Record source categories:

Delete entry and replace with “Individual, their supervisors, Navy Personnel Command, and schools assigned to the Submarine Learning Center.”

* * * * *

N01500-8

System name:

Personnel and Training Evaluation Program.

System location:

Strategic Systems Programs, 2521 South Clark Street, Suite 1000, Arlington, VA 22202-3930.

Categories of individuals covered by the system:

Officers and enlisted technicians who have been trained to operate and maintain the Strategic Weapon System (SWS) on Fleet Ballistic Missile Submarines. Officers are identified by completion of the SWS Basic Weapons course and enlisted individuals are identified by a Navy Enlisted Classification (NEC) Code in the series 3301-3349. Enlisted technicians who have been trained to operate and maintain the Attack Weapons System on Guided Missile Submarines. These individuals are identified by Navy Enlisted Classification (NEC) Codes of 3350, 1317, and 1319.

Categories of records in the system:

Individual's name, Social Security Number, NEC codes, current duty station and projected rotation date, duty station assignment history, Armed Services Vocational Aptitude Battery or Basic Test Battery scores, completion date for Navy schools, civilian education, promotion history (present and past rate), enlistment data (dates of service entry and expiration of enlistment/extension), patrol experience and scores on the Personnel and Training Evaluation Program examinations.

Authority for maintenance of the system:

10 U.S.C. 5013, Secretary of the Navy and E.O. 9397 (SSN).

Purpose(s):

To maintain a data base which will permit the Strategic Systems Programs to record achievement test scores of officers and enlisted members who operate and maintain the Strategic Weapon System on Fleet Ballistic Missile Submarines and enlisted personnel who operate and maintain the Attack Weapons System on Guided Missile Submarines. This information will be used to assess the adequacy of training received and the need for additional training. Internal Navy users are the Director, Strategic Systems Programs, Submarine Learning Center and assigned schools, Type Commanders and assigned units in the performance of their duties relating to training on the Strategic Weapon System and Attack Weapon System. Additional internal users include the Chief of Naval Personnel and Type Commanders and assigned units in the performance of their duties related to personnel assignment. Navy Personnel Research, Studies and Technology may, from time to time, validate service selection criteria for the DOD. It may be provided to civilian contractors and their employees for the purpose of analysis or system operations in accordance with an approved official contract with the U.S. Navy.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD `Blanket Routine Uses' that appear at the beginning of the Navy's compilation of systems of records notices apply to this system.

Policies and practices for storing, retrieving, accessing, retaining, and disposing of records in the system:

Storage:

Automated records are stored on computer media, disks, or magnetic tape. Hard copy and/or electronic reports are distributed to authorized user activities using approved shipping procedures and in the case of electronic format, via user/password protected distribution methods using Navy Knowledge Online (NKO). Hard copy reports and portable computer media are stored in notebooks or file folders in drawers, cabinets, or other filing equipment.

Retrievability:

Social Security Number, name, and duty station.

Safeguards:

Access is provided to authorize personnel only on a need-to-know basis. Records are maintained in controlled access rooms or areas. Computer terminal access is controlled by terminal identification and password. Terminal identification is positive and maintained by control points. Physical access to terminals is restricted to specifically authorized individuals. Password authorization, assignment, and monitoring are the responsibility of the systems manager.

Retention and disposal:

Records are retained for five years after an individual leaves the Strategic Weapons System or Attack Weapon System program and then destroyed.

System manager(s) and address:

Head, Operations, Evaluation and Training Branch, Strategic Systems Program, 2521 South Clark Street, Suite 1000, Arlington, VA 22202-3930.

Notification procedure:

Individuals seeking to determine whether this system of records contains information about themselves should address written inquiries to the Director, Strategic Systems Programs, 2521 South Clark Street, Suite 1000, Arlington, VA 22202-3930.

Requester should submit a signed written request that contains his/her full name, Social Security Number, and military duty status. Visitors should present military identification card, driver's license or other similar identification.

Record access procedures:

Individuals seeking access to records about themselves contained in this system of records should address written inquiries to the Director, Strategic Systems Programs, 2521 South Clark Street, Suite 1000, Arlington, VA 22202-3930.

Requester should submit a signed written request that contains his/her full name, Social Security Number and military duty status. Visitors should present military identification card, driver's license or other similar identification.

Contesting record procedures:

The Navy's rules for accessing records, and for contesting contents, and appealing initial agency determinations are published in Secretary of the Navy Instruction 5211.5; 32 CFR part 701; or may be obtained from the system manager.

Record source categories:

Individual, their supervisors, Navy Personnel Command, and schools assigned to the Submarine Learning Center.

Exemptions claimed for the system:

None.

[FR Doc. E7-1732 Filed 2-1-07; 8:45 am]

BILLING CODE 5001-06-P